DEPARTMENT OF ENERGY

Federal Energy Regulatory Commission

Combined Notice of Filings #1

Take notice that the Commission received the following electric rate filings:

Docket Numbers: ER23-1439-001.

Applicants: PJM Interconnection, L.L.C.

Description: Tariff Amendment: Response to Commission's 5/10/23 Deficiency Letter in ER23-1439 to be effective 5/22/2023.

Filed Date: 6/9/23.

Accession Number: 20230609-5100.

Comment Date: 5 p.m. ET 6/30/23.

Docket Numbers: ER23-1588-001.

Applicants: ISO New England Inc., New England Power Pool Participants Committee.

Description: Tariff Amendment: ISO New England Inc. submits tariff filing per 35.17(b): ISO-NE Response to Deficiency Notice to be effective 8/4/2023.

Filed Date: 6/9/23.

Accession Number: 20230609-5072.

Comment Date: 5 p.m. ET 6/30/23.

Docket Numbers: ER23-1710-001.

Applicants: El Paso Electric Company.

Description: Tariff Amendment: Concurrence of EPE to APS Service Agreement No. 387, Sonoran Solar Energy to be effective 5/7/2023.

Filed Date: 6/8/23.

Accession Number: 20230608-5152.

Comment Date: 5 p.m. ET 6/29/23.

Docket Numbers: ER23-2107-000.

Applicants: Clearwater Wind II, LLC.

Description: Baseline eTariff Filing: Clearwater Wind II, LLC Application for Market-Based Rate Authorization to be effective 8/9/2023.

Filed Date: 6/9/23.

Accession Number: 20230609-5030.

Comment Date: 5 p.m. ET 6/30/23.

Docket Numbers: ER23-2108-000.

Applicants: Tri-State Generation and Transmission Association, Inc.

Description: § 205(d) Rate Filing: Initial Filing of Service Agreement No. 912 to be effective 5/10/2023.

Filed Date: 6/9/23.

Accession Number: 20230609-5062.

Comment Date: 5 p.m. ET 6/30/23.

Docket Numbers: ER23-2109-000.

Applicants: RE Gaskell West 1 LLC.

Description: § 205(d) Rate Filing: RE Gaskell West 1 Concurrence to Amended & Restated LGIA Co-Tenancy Agreement to be effective 6/8/2023.

Filed Date: 6/9/23.

Accession Number: 20230609-5065.

Comment Date: 5 p.m. ET 6/30/23.

Docket Numbers: ER23-2110-000.

Applicants: Tri-State Generation and Transmission Association, Inc.

Description: Tariff Amendment: Notice of Cancellation of Service Agreement FERC No. 820 to be effective 5/10/2023.

Filed Date: 6/9/23.

Accession Number: 20230609-5067.

Comment Date: 5 p.m. ET 6/30/23.

Docket Numbers: ER23-2112-000.

Applicants: Sandy Ridge Wind 2, LLC.

Description: Initial rate filing: Reactive Rate Service as FERC Rate Schedule No. 2 to be effective 8/8/2023.

Filed Date: 6/9/23.

Accession Number: 20230609-5130.

Comment Date: 5 p.m. ET 6/30/23.

Docket Numbers: ER23-2113-000.

Applicants: ETEM Remediation Two LLC.

Description: Baseline eTariff Filing: Market-Based Rate Application and Request for Expedited Action to be effective 7/24/2023.

Filed Date: 6/9/23.

Accession Number: 20230609-5159.

Comment Date: 5 p.m. ET 6/30/23.

Take notice that the Commission received the following PURPA 210(m)(3) filings:

Docket Numbers: QM23-5-000.

Applicants: WPPI Energy.

Description: Application of WPPI Energy to Terminate Its Mandatory Purchase Obligation under the Public Utility Regulatory Policies Act of 1978.

Filed Date: 6/8/23.

Accession Number: 20230608-5169.

Comment Date: 5 p.m. ET 7/6/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 9, 2023.
Debbie-Anne A. Reese,
Deputy Secretary.

[FR Doc. 2023-12864 Filed 6-15-23; 8:45 am]

BILLING CODE 6717-01-P